NUCLEAR REGULATORY COMMISSION

[NRC-2011-0217]

Policy Regarding Submittal of Amendments for Processing of Equivalent Feed at Licensed Uranium Recovery Facilities

AGENCY: Nuclear Regulatory Commission.

ACTION: Regulatory issue summary; extension of comment period and correction.

SUMMARY: The U.S. Nuclear Regulatory Commission (NRC) is correcting a notice appearing in the Federal Register on September 30, 2011 (76 FR 60941), that requested public comment on a regulatory issue summary to inform addresses of the NRC's policy regarding receipt and processing, without a license amendment, of equivalent feed at an NRC and Agreement State-licensed uranium recovery site. This action is necessary to correct several Accession Numbers, correct associated titles referring to documents in the NRC's Agencywide Documents Access and Management System (ADAMS) and in the NRC Library, and update the date voluntary responses should be submitted to the NRC. Due to these errors, the NRC is extending the comment period from October 31, 2011, to November 14, 2011.

FOR FURTHER INFORMATION CONTACT: Cindy Bladey, Chief, Rules, Announcements and Directives Branch, Office of Administration, U.S. Nuclear Regulatory Commission, Washington, DC, 20555-0001; telephone: 301-492-3667 or e-mail: Cindy.Bladey@nrc.gov.

SUPPLEMENTARY INFORMATION: On page 60942 of Federal Register document 2011-25243, published September 30, 2011 (76 FR 60941), in the second column, under the section titled Intent, first paragraph, “ADAMS Accession No. MLXXXXXXXX” is corrected to read “ADAMS Accession No. ML003773008.” Also, on the same page, from the bottom of the second column to the top of the third column, under the section titled BACKGROUND, “In SECY-99-01” is corrected to read “In SECY-99-012.” In the same sentence, “(ADAMS Accession No. MLXXXXXXXX)” is corrected to read “available at http://www.nrc.gov/reading-rm/doc-collections/commission/secys/1999/.”

On page 60943 of the same document, at the bottom of the first column, under the section titled Summary of Issue, “(see Page A2 of SECY-99-011, [INSERT TITLE AND ADAMS ML])” is corrected to read “(see Page A2 of SECY-99-011, “Draft Rulemaking Plan: Domestic Licensing of Uranium and Thorium Recovery Facilities—Proposed New 10 CFR Part 41,” available at http://www.nrc.gov/reading-rm/doc-collections/commission/secys/1999/).” Also, on the same page and in the same paragraph, “(see SECY-09-012, [INSERT TITLE AND ADAMS ML])” is corrected to read “(see SECY-09-012, “Use of Uranium Mill Tailings Impoundments for the Disposal of Waste Other than 11e.(2) Byproduct Material and Reviews of Applications to Process Material Other than Natural Uranium Ores,” available at http://www.nrc.gov/reading-rm/doc-collections/commission/secys/1999/).”

On page 60944 of the same document, at the bottom of the first column, under the section titled Voluntary Response, “October, 31, 2011” is corrected to read November 14, 2011.”

Dated at Rockville, Maryland, this 5th day of October, 2011.
For the Nuclear Regulatory Commission.
Cindy Bladey,
Chief, Rules, Announcements and Directives Branch, Division of Administrative Services, Office of Administration.

[FR Doc. 2011-26234 Filed 10-11-11; 8:45 am]

BILLING CODE 7590-01-P